DEPARTMENT OF THE INTERIOR

Bureau of Land Management

[17X.LLAZ956000.L14400000.BJ0000.LXSSA225000.241A]

Notice of Filing of Plats of Survey; Arizona

AGENCY: Bureau of Land Management, Interior.

ACTION: Notice of official filing.

SUMMARY: The plats of survey of the following described lands were officially filed in the Bureau of Land Management (BLM), Arizona State Office, Phoenix, Arizona, on the dates indicated. Surveys announced in this notice are necessary for the management of lands administered by the agencies indicated.

ADDRESSES: These plats will be available for inspection in the Arizona State Office, Bureau of Land Management, One North Central Avenue, Suite 800, Phoenix, Arizona 85004-4427. Protests of the survey should be sent to the Arizona State Director at this address.

FOR FURTHER INFORMATION CONTACT: Gerald Davis, Chief Cadastral Surveyor of Arizona; (602) 417-9558; gtdavis@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION:

The Gila and Salt River Meridian, Arizona

The plat representing the dependent resurvey of portions of the east and north boundaries, a portion of the subdivisional lines, the subdivision of section 1, and a metes-and-bounds survey in section 1, Township 3 North, Range 4 East, accepted June 29, 2017, and officially filed July 5, 2017, for Group 1159, Arizona.

This plat was prepared at the request of the Bureau of Reclamation.

The plat representing the dependent survey of a portion of the subdivisional lines, and the subdivision of sections 15 and 16, Township 11 North, Range 4 East, accepted June 29, 2017, and officially filed July 5, 2017, for Group 1167, Arizona.

This plat was prepared at the request of the United States Forest Service.

The plat, in two sheets, representing the recovery and rehabilitation of certain corners in section 10, Township 21 North, Range 6 East, accepted June 29, 2017, and officially filed July 5, 2017, for Group 1123, Arizona.

This plat was prepared at the request of the United States Forest Service.

The plat representing the dependent resurvey of a portion of the subdivisional lines, and the subdivision of section 12, Township 28 North, Range 8 East, accepted January 24, 2017, and officially filed January 25, 2017, for Group 1157, Arizona.

This plat was prepared at the request of the Bureau of Indian Affairs.

The plat representing the dependent resurvey of a portion of the subdivisional lines, and the dependent resurvey of Homestead Entry No. 391, Township 14 North, Range 10 East, accepted January 6, 2017, and officially filed January 9, 2017, for Group 1123, Arizona.

This plat was prepared at the request of the United States Forest Service.

The plat representing the dependent resurvey of portions of Mineral Survey No. 4442, Township 11 North, Range 15 East, accepted June 29, 2017, and officially filed July 5, 2017, for Group 1155, Arizona.

This plat was prepared at the request of the United States Forest Service.

The plat showing the dependent resurvey of a portion of the Fourth Standard Parallel North (south boundary), and a portion of the east boundary, Township 17 North, Range 24 East, accepted February 21, 2017, and officially filed February 23, 2017, for Group 1163, Arizona.

This plat was prepared at the request of the National Park Service.

The plat showing the dependent resurvey of a portion of the south boundary, a portion of the subdivisional lines, and the subdivision of section 28, 29 and 33, Township 15 North, Range 5 West, accepted February 21, 2017, and officially filed February 23, 2017, for Group 1148, Arizona.

This plat was prepared at the request of the United States Forest Service.

The plat showing the dependent resurvey of a portion of the Fifth Standard Parallel North (north boundary), a portion of the west boundary, and a portion of the subdivisional lines, Township 20 North, Range 7 West, accepted June 29, 2017, and officially filed July 5, 2017, for Group 1156, Arizona.

This plat was prepared at the request of the United States Forest Service.

The plat showing the dependent resurvey of a portion of the subdivisional lines, and the subdivision of section 4, Township 24 North, Range 16 West, accepted January 27, 2017, and officially filed January 30, 2017, for Group 1151, Arizona.

This plat was prepared at the request of the Bureau of Land Management.

The plat showing the dependent resurvey of a portion of the Sixth Standard Parallel North (south boundary), and a portion of the subdivisional lines, Township 25 North, Range 16 West, accepted January 27, 2017, and officially filed January 30, 2017, for Group 1151, Arizona.

This plat was prepared at the request of the Bureau of Land Management.

The plat showing the dependent resurvey of a portion of the subdivisional lines, and the subdivision of section 23, Township 7 North, Range 17 West, accepted June 29, 2017, and officially filed July 5, 2017, for Group 1161, Arizona.

This plat was prepared at the request of the Bureau of Land Management.

The plat showing the dependent resurvey of a portion of the subdivisional lines, Township 25 North, Range 17 West, accepted June 27, 2017, and officially filed January 30, 2017, for Group 1151, Arizona.

This plat was prepared at the request of the Bureau of Land Management.

The plat showing the dependent resurvey of a portion of the subdivisional lines, Township 25 North, Range 17 West, accepted January 27, 2017, and officially filed January 30, 2017, for Group 1151, Arizona.

This plat was prepared at the request of the Bureau of Land Management.

The plat showing the dependent resurvey of a portion of the subdivisional lines, Township 26 North, Range 17 West, accepted January 27, 2017, and officially filed January 30, 2017, for Group 1151, Arizona.

This plat was prepared at the request of the Bureau of Land Management.

The plat showing the dependent resurvey of a portion of the subdivisional lines, Township 27 North, Range 17 West, accepted January 27, 2017, and officially filed January 30, 2017, for Group 1151, Arizona.

This plat was prepared at the request of the Bureau of Land Management.

The plat showing the dependent resurvey of a portion of the Gila and Salt River Meridian (east boundary), a portion of the north boundary, and a portion of the subdivisional lines, Township 2 South, Range 1 West, accepted January 27, 2017, and officially filed January 30, 2017, for Group 1149, Arizona.

This plat was prepared at the request of the Bureau of Indian Affairs.

The plat showing the dependent resurvey of a portion of the subdivisional lines, and the subdivision of section 7, Township 1 South, Range 23 West, accepted June 29, 2017, and officially filed July 5, 2017, for Group 1152, Arizona.

This plat was prepared at the request of the United States Fish and Wildlife Service.

The plat showing the dependent resurvey of a portion of the south boundary of the Gila River Indian Reservation, a portion of the subdivisional lines, and the subdivision of sections 16 and 17, Township 5 South, Range 5 East, accepted January 27, 2017, and officially filed January 30, 2017, for Group 1149, Arizona.

This plat was prepared at the request of the Bureau of Indian Affairs.

The plat showing the metes-and-bounds survey of the Calabazas National Historical Park, in a portion of Lot A, Block 211, of the Rio Rico Estates, Unit 10 subdivision, being a portion of Baca Float No. 3, Township 23 South, Ranges 13 and 14 East, accepted March 21, 2017, and officially filed March 23, 2017, for Group 1162, Arizona.

This plat was prepared at the request of the National Park Service.

The plat showing the dependent resurvey of a portion of the subdivisional lines, and the subdivision of section 29, Township 6 South, Range 22 East, accepted February 21, 2017, and officially filed February 23, 2017, for Group 1166, Arizona.

This plat was prepared at the request of the Bureau of Land Management.

A person or party who wishes to protest against any of these surveys must file a written notice of protest within 30 calendar days from the date of this publication with the Arizona State Director, Bureau of Land Management, stating that they wish to protest.

A statement of reasons for a protest may be filed with the notice of protest to the State Director, or the statement of reasons must be filed with the State Director within thirty (30) days after the protest is filed. Before including your address, or other personal information in your protest, please be aware that your entire protest, including your personal identifying information, may be made publicly available at any time. While you can ask us in your comment to withhold your personal identifying information from public review, we cannot guarantee that we will be able to do so.

Authority: 43 U.S.C. Chap. 3.

Gerald T. Davis,
Chief Cadastral Surveyor of Arizona.

[FR Doc. 2017-20110 Filed 9-20-17; 8:45 am]

BILLING CODE 4310-32-P